DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau, Commerce.

Title: Geographic Partnership Programs.

OMB Control Number: 0607-0795.

Form Number(s): Not applicable.

Type of Request: Regular Submission.

Number of Respondents: 9,900.

Fiscal Year (FY) 2015: 1,900.

FY 2016: 4,000.

FY 2017: 4,000.

Average Hours per Response: 13.5.

Burden Hours: 133,650.

FY 2015: 25,650.

FY 2016: 54,000.

FY 2017: 54,000.

Needs and Uses: The mission of GEO within the U.S. Census Bureau is to plan, coordinate, and administer all geographic and cartographic activities needed to facilitate Census Bureau statistical programs throughout the United States and its territories. GEO manages programs to continuously update geographic data including addresses, spatial features, boundaries, and geographic entities in the Master Address File/Topologically Integrated Geographic Encoding and Referencing (MAF/TIGER) System. GEO also conducts research into geographic concepts, methods, and standards needed to facilitate Census Bureau data collection and dissemination programs. Geographic Partnership Programs (GPPs) encourages participants, following Census Bureau guidelines, to review, update, and suggest modifications to geographic data to maintain MAF/TIGER and to ensure the accurate reporting of data from censuses and surveys. Because state, local, and tribal governments have geographic data and current knowledge about where growth and change are occurring in their jurisdictions, their input into the overall development of a continually maintained address list for censuses and surveys makes a vital contribution. The Census Bureau recognizes that state, local, and tribal governments have authoritative geographic data for their jurisdictions. The benefits to local governments in sharing that information as part of the Census Bureaus GPPs are realized with quality data for more accurate results of censuses and surveys. This notice is for a generic clearance that will cover a number of activities required for updating MAF/TIGER with participant-provided address and other geographic information, or obtain address and spatial data for research and evaluation purposes. The information collected in these programs in cooperation with state, local, and tribal governments and other partners is essential to the mission of the Census Bureau and directly contributes to the successful outcome of censuses and surveys conducted by the Census Bureau. The generic clearance allows the Census Bureau to focus its resources on actual operational planning, development of procedures, and implementation of programs to update and improve the geographic data maintained in MAF/TIGER.

Geographic Support System Initiative (GSS-I)

The GSS-I is an integrated program designed to improve geographic data and enhance the quality assessment and measurement for MAF/TIGER. The GSS-I builds on the accomplishments of the last decade's MAF/TIGER Enhancement Program (MTEP), which redesigned MAF/TGER, improved the positional accuracy of TIGER spatial features, and emphasized quality measurement. The Census Bureau plans on a continual update process for MAF/TIGER throughout the decade to support current surveys, including the American Community Survey (ACS). Major participants are the Census Bureau with state, local, and tribal governments. The Census Bureau will contact state, local, and tribal governments to obtain files containing their geographic data to explore data exchange opportunities, and share best practices on maintaining quality geographic data. Governments can provide a file of their geographic data or provide data through a web-based application sponsored by the Census Bureau. Governments can choose the format and medium to provide their data directly to the Census Bureau, or may elect to standardize their data using Community TIGER.

Affected Public: State, local, and tribal governments.

Frequency: Annually.

Respondent's Obligation: Voluntary.

Legal Authority: Title 13 U.S.C. Sections 16, 141, and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: September 8, 2015.
Glenna Mickelson,
Management Analyst, Office of the Chief Information Officer.

[FR Doc. 2015-22952 Filed 9-11-15; 8:45 am]

BILLING CODE 3510-07-P